DEPARTMENT OF ENERGY

Federal Energy Regulatory Commission

[Docket No. EL10-68-000]

Resale Power Group of Iowa, WPPI Energy v. ITC Midwest LLC, Interstate Power and Light Company; Notice of Complaint

May 19, 2010.

Take notice that on May 18, 2010, pursuant to Rule 206 of the Federal Energy Regulatory Commission's (Commission) Rules of Practice and Procedure, 18 CFR 385.206 (2009), and section 306 of the Federal Power Act, 16 U.S.C. 825(e) (2006), Resale Power Group of Iowa and WPPI Energy (Complainants) filed a formal complaint against ITC Midwest LLC and Interstate Power and Light Company (Respondents), alleging that the Respondents failed to file changes in rates, terms, and conditions of jurisdictional transmission service under the 1991 Operating and Transmission Agreement with Central Iowa Power Cooperative as required by sections 205(c) and 205(d) of the Federal Power Act.

The Complainant certifies that copies of the complaint were served on the contacts for the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 7, 2010.

Kimberly D. Bose,
Secretary.

[FR Doc. 2010-12621 Filed 5-25-10; 8:45 am]

BILLING CODE 6717-01-P